DEPARTMENT OF EDUCATION

Applications for New Awards; Promise Neighborhoods Program—Implementation Grant Competition; Correction Catalog of Federal Domestic Assistance (CFDA) Number: 84.215N.

AGENCY: Office of Innovation and Improvement, Department of Education.

ACTION: Notice; correction.

SUMMARY: On July 8, 2016, we published in the Federal Register (81 FR 44741) a notice inviting applications for new awards for fiscal year (FY) 2016 for the Promise Neighborhoods program (Promise Neighborhoods NIA). This document corrects two dates in the Promise Neighborhoods NIA.

DATES: Deadline for Notice of Intent to Apply: August 11, 2016. Deadline for Intergovernmental Review: November 7, 2016.

FOR FURTHER INFORMATION CONTACT: Adrienne Hawkins, U.S. Department of Education, 400 Maryland Avenue SW., Room 4W256, Washington, DC 20202-5970. Telephone: (202) 453-5638, or by email: Adrienne.hawkins@ed.gov.

If you use a telecommunications device for the deaf (TDD) or a text telephone (TTY), call the Federal Relay Service, toll free, at 1-800-877-8339.

SUPPLEMENTARY INFORMATION: This document corrects: (1) The deadline for intergovernmental review; and (2) the deadline for the notice of intent to apply. All other requirements and conditions stated in the Promise Neighborhoods NIA remain the same.

Corrections

In FR Doc. No. 2016-16130, in the Federal Register of July 8, 2016 (81 FR 44741), we make the following corrections:

(a) On page 44742, in the left-hand column, revise lines 17-18 to read as follows:

Deadline for Notice of Intent to Apply: August 11, 2016.

(b) On page 44753, in the left-hand column, revise lines 35-36 to read as follows:

Deadline for Notice of Intent to Apply: August 11, 2016.

(c) On page 44753, in the middle column, revise lines 55-56 to read as follows:

Deadline for Notice of Intent to Apply: August 11, 2016.

(d) On page 44753, in the right-hand column, revise lines 38-39 to read as follows:

Deadline for Intergovernmental Review: November 7, 2016.

Program Authority: Fund for the Improvement of Education (FIE), title V, part D, subpart 1, sections 5411 through 5413 of the Elementary and Secondary Education Act of 1965 (ESEA), as amended by the No Child Left Behind Act of 2001 (20 U.S.C. 7243-7243b).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Nadya Chinoy Dabby,
Assistant Deputy Secretary for Innovation and Improvement.

[FR Doc. 2016-18069 Filed 7-29-16; 8:45 am]

BILLING CODE 4000-01-P